DEPARTMENT OF COMMERCE

National Oceanic and Atmospheric Administration

Proposed Information Collection; Comment Request; Coastal Zone Management Program Administration

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 8, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Masi Okasaki, 301-713-3155, extension 180 or e-mail at masi.okasaki@noaa.gov.

SUPPLEMENTARY INFORMATION:

I. Abstract

The coastal zone management grants provide funds to state and territories to: implement federally approved coastal management plans; revise assessment and multi-year strategy documents; submit Section 306A documentation; submit requests to approve program changes and amendments; complete performance reports; complete National Coastal Management Performance Measurement System documentation, and complete the states coastal nonpoint source pollution program.

II. Method of Collection

Both electronic and paper submissions are accepted from respondents. A comprehensive web-based application information system is under development.

III. Data

OMB Number: 0648-0119.

Form Number: None.

Type of Review: Regular submission.

Affected Public: State, Local or Tribal government.

Estimated Number of Respondents: 35.

Estimated Time Per Response: Performance Reports, 27 hours; Assessment and Strategy, 240 hours; 306A Documentation, 5 hours; Amendments and Program Changes, 8 hours; National Coastal Management Performance Measurement System, 380 hours; and Coastal Nonpoint Pollution Program, 70 hours.

Estimated Total Annual Burden Hours: 17,974.

Estimated Total Annual Cost to Public: $500.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 2, 2005.
Gwellnar Banks,
Management Analyst, Office of the Chief Information Officer.

[FR Doc. 05-11338 Filed 6-7-05; 8:45 am]

BILLING CODE 3510-22-P